DEPARTMENT OF HEALTH AND HUMAN SERVICES

Centers for Disease Control and Prevention

Solicitation of Nominations for Appointment to the CDC/HRSA Advisory Committee on HIV, Viral Hepatitis and STD Prevention and Treatment

AGENCY: Centers for Disease Control and Prevention (CDC), Department of Health and Human Services (HHS).

ACTION: Notice.

SUMMARY: The Centers for Disease Control and Prevention (CDC), within the Department of Health and Human Services (HHS), is seeking nominations for membership on the CDC/HRSA Advisory Committee on HIV, Viral Hepatitis and STD Prevention and Treatment (CHAC). CHAC consists of 18 experts in fields associated with public health, epidemiology, laboratory practice, immunology, infectious diseases, substance use disorder, behavioral science, health education, healthcare delivery, state health programs, clinical care, preventive health, medical education, health services and clinical research, health equity, and healthcare financing, who are selected by the Secretary, HHS.

DATES: Nominations for membership on CHAC must be received no later than October 1, 2023. Packages received after this time will not be considered for the current membership cycle.

ADDRESSES: All nominations should be emailed to nchhstppolicy@cdc.gov with the subject line “CHAC 2024 Nomination.”

FOR FURTHER INFORMATION CONTACT: Marah Condit, MS, Committee Management Lead, Office of Policy, Planning, and Partnerships, National Center for HIV, Viral Hepatitis, STD, and TB Prevention, Centers for Disease Control and Prevention, 1600 Clifton Road NE, Mailstop US8-6, Atlanta, Georgia 30329-4027. Telephone: (404) 639-3423; Email: MCondit@cdc.gov.

SUPPLEMENTARY INFORMATION: The Secretary, Department of Health and Human Services (HHS), and by delegation the Director, Centers for Disease Control and Prevention (CDC), and the Administrator, Health Resources and Services Administration (HRSA), are authorized by the Public Health Service Act to: (1) conduct, encourage, cooperate with, and assist other appropriate public health authorities, scientific institutions, and scientists in the conduct of research, investigations, experiments, demonstrations, and studies relating to the causes, diagnosis, treatment, control, and prevention of physical and mental diseases and other impairments; (2) assist states and their political subdivisions in preventing, suppressing, and treating communicable diseases and other preventable conditions and in promoting health and well-being; (3) assist public and non-profit private entities in preventing, controlling, and treating sexually transmitted diseases (STDs), including the human immunodeficiency virus (HIV); (4) improve health and achieve health equity through access to quality services and a skilled health workforce and innovative programs; (5) support healthcare services to persons with or who experience risk for HIV, viral hepatitis, and other STDs; (6) advance the education of health professionals and the public about HIV, viral hepatitis, and other STDs; and (7) adolescent and school health as it pertains to HIV, viral hepatitis, and STDs.

The CDC/HRSA Advisory Committee on HIV, Viral Hepatitis and STD Prevention and Treatment (CHAC) meets at least two times each calendar year, or at the discretion of the Designated Federal Officers in consultation with the CHAC co-chairs.

HHS policy stipulates that committee membership be balanced in terms of points of view represented and the committee's function. Appointments shall be made without discrimination on the basis of age, race, ethnicity, gender, sexual orientation, gender identity, HIV status, disability, and cultural, religious, or socioeconomic status. Nominees must be U.S. citizens and cannot be full-time employees of the U.S. Government. Current participation on federal workgroups or prior experience serving on a federal advisory committee does not disqualify a candidate; however, HHS policy is to avoid excessive individual service on advisory committees and multiple committee memberships. The CHAC charter stipulates that the Committee must include at least four members who are persons with HIV. The Committee may also include representation from persons with lived experience, such as those who have experienced viral hepatitis, STDs, and drug use; state and local health and education agencies; HIV/viral hepatitis/STD community-based organizations; and the ethics or faith-based community.

Committee members are Special Government Employees (SGEs), requiring the filing of financial disclosure reports at the beginning of and annually during their terms. Individuals who are selected for appointment will be required to provide detailed information regarding their financial interests and, for example, any work they do for the federal government through research grants or contracts. Disclosure of this information is required in order for CDC ethics officials to determine whether there is a conflict between the SGE's public duties as a member of CHAC and the SGE's private interests, including an appearance of a loss of impartiality as defined by federal laws and regulations, and to identify any required remedial action needed to address the potential conflict.

CDC and HRSA review potential candidates for CHAC membership when a vacancy arises and provide a slate of nominees for consideration to the Secretary of HHS for final selection. CDC and HRSA each publish a Federal Register notice and will be using a joint process to nominate nominees on a rolling basis; thus, applications received by CDC will be shared with HRSA for consideration. Therefore, potential candidates need only apply in response to one of the Federal Register notices. HHS notifies selected candidates of their appointment near the start of the term in December 2024, or as soon as the HHS selection process is completed. Note that the need for different expertise varies from year to year and a candidate who is not selected in one year may be reconsidered in a subsequent year. Candidates should submit the following items:

A letter of interest or personal statement from the nominee stating how the nominee's expertise would inform the work of CHAC

A biographical sketch of the nominee (500 words or fewer)

Current curriculum vitae or resume, including complete contact information (telephone numbers, mailing address, and email address)

At least one letter of recommendation from person(s) not employed by HHS. Candidates may submit letter(s) from current HHS employees if they wish, but at least one letter must be submitted by a person not employed by an HHS agency (i.e., CDC, National Institutes of Health, Food and Drug Administration, etc.).

Nominations may be submitted directly by the individual seeking nomination or by the person/organization recommending the candidate. CDC and HRSA will collect and retain nominations received for up to two years to create a pool of potential CHAC nominees.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-07997 Filed 4-14-23; 8:45 am]

BILLING CODE 4163-18-P